DEPARTMENT OF HEALTH AND HUMAN SERVICES

National Institutes of Health

Proposed Collection; Comment Request; Physical Activity and Its Components In Relation To Plasma Inflammatory Markers of Cancer Risks Among Chinese Adults

SUMMARY: In compliance with the requirement of Section 3506(c)(2)(A) of the Paperwork Reduction Act of 1995, for opportunity for public comment on proposed data collection projects, the National Cancer Institute (NCI), the National Institutes of Health (NIH) will publish periodic summaries of proposed projects to be submitted to the Office of Management and Budget (OMB) for review and approval.

Proposed Collection

Title: Physical Activity And Its Components In Relation To Plasma Inflammatory Markers Of Cancer Risks Among Chinese Adults.

Type of Information Collection Request: NEW.

Need and Use of Information Collection: The specific objectives of the current study are to: (1) Develop a comprehensive physical activity questionnaire that includes standardized questions about all types of physical activity (e.g., recreational, household, occupational, and transportation), and all parameters of physical activity (e.g., frequency, intensity; and duration in hours per week; (2) to assess the validity and reliability of this comprehensive physical activity questionnaire and the currently used baseline physical activity questionnaire in two existing study cohorts using objective measures of physical activity/physical fitness (activity monitors and step test), and; (3) to evaluate whether types and parameters of physical activity are associated with circulating levels of specific inflammatory markers that have been linked to cancer risk, independent of body mass and other potentially confounding variables. The specific markers are C-reactive protein (CRP), interleukin 6 (IL-6), and soluble tumor necrosis factor alpha (TNF-”).

The findings of this study will contribute to research in several important ways. They will allow the collection of objective physical activity measurements using activity monitors within a population with a wide range of between-person variation in physical activity; add to our understanding of the relationship of individual types of physical activity (e.g., recreational, household, occupational, and transportation), and parameters of physical activity (e.g., frequency, intensity, and duration in hours per week) to cancer outcomes; allow the use of physical activity information together with detailed, prospectively collected information regarding other lifestyle factors, such as diet and body mass, factors that are highly correlated with physical activity and also represent strong independent determinants of inflammatory mediator production, and; should the anticipated associations be found, the current study will likely stimulate future studies aimed at independently and jointly evaluating physical activity and chronic low-grade systemic inflammation in relation to cancer of several sites.

Frequency of Response: Once a month during a twelve-month period.

Affected Public: Approximately 600 men and women from a current cohort study among 75,000 women and 73,000 men and residing in Shanghai, China who agree to participate in this study.

Type of Respondents: Adult men and women aged 40 to 70 years old who are residents of Shanghai, China and current participants in another ongoing study. The annual reporting burden is as follows:

Estimated Number of Respondents: 600.

Estimates of Respondent Hour Burden and Annualized Cost to Respondents:

Type of respondents | Survey instruments per respondents | Number of participants | Frequency of response | Average burden hours per response | Total annual hour burden
Adults (40-70 yrs old) | Physical Activity Questionnaire | 600 | 2 | 0.5 | 600
| 7-Day Physical Activity Record | 600 | 4 | 1.4 | 3360
| 1-Week Physical Activity Recall | 600 | 12 | 0.25 | 1800
TOTAL |  | 600 |  |  | 5,760

There are no Capital Costs to report. There are no Operating or Maintenance Costs to report.

Request for Comments: Written comments and/or suggestions from the public and affected agencies are invited on one or more of the following points: (1) Whether the proposed collection of information is necessary for the proper performance of the function of the agency, including whether the information will have practical utility; (2) The accuracy of the agency's estimate of the burden of the proposed collection of information, including the validity of the methodology and assumptions used; (3) Ways to enhance the quality, utility, and clarity of the information to be collected; and (4) Ways to minimize the burden of the collection of information on those who are to respond, including the use of appropriate automated, electronic, mechanical, or other technological collection techniques or other forms of information technology.

FOR FURTHER INFORMATION CONTACT: To request more information on the proposed project or to obtain a copy of the data collection plans and instruments, contact Michael F. Leitzmann, M.D., Dr. P.H., Nutritional Epidemiology Branch, Division of Cancer Epidemiology and Genetics, National Cancer Institute, NIH, DHHS, 6120 Executive Blvd., EPS-MSC 7232, Bethesda, MD, 20892, U.S.A. or call non-toll-free number 301-402-3491 or E-mail your request, including your address to: leitzmann@mail.nih.gov.

Comments Due Date: Comments regarding this information collection are best assured of having their full effect if received within 60 days of the date of this publication.

Dated: January 25, 2005.
Rachelle Ragland-Greene,
NCI Project Clearance Liaison, National Institutes of Health.

[FR Doc. 05-2127 Filed 2-3-05; 8:45 am]

BILLING CODE 4140-01-P